NUCLEAR REGULATORY COMMISSION

[Docket No. 50-482; NRC-2020-0110]

Issuance of Exemption in Response to COVID-19 Public Health Emergency

AGENCY: Nuclear Regulatory Commission.

ACTION: Exemption; issuance.

SUMMARY: The U.S. Nuclear Regulatory Commission (NRC) issued one exemption in August 2021 in response to a request from one licensee for relief due to the coronavirus 2019 disease (COVID-19) public health emergency (PHE). The exemption affords the licensee temporary relief from certain requirements under NRC regulations.

DATES: On August 25, 2021, the NRC granted one exemption in response to a request submitted by one licensee on July 29, 2021, as supplemented by letter dated August 12, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request for copies of documents to the PDR via email at pdr.resource@nrc.gov or call 1-800-397-4209 or 301-415-4737, between 8:00 a.m. and 4:00 p.m. (ET), Monday through Friday, except Federal holidays.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

On August 25, 2021, the NRC granted one exemption in response to a request submitted by one licensee dated July 29, 2021, as supplemented by letter dated August 12, 2021. The exemption temporarily allows the licensee to deviate from certain requirements of chapter I of title 10 of the Code of Federal Regulations (10 CFR), part 50, appendix E, “Emergency Planning and Preparedness for Production and Utilization Facilities,” section IV.F, “Training.”

The exemption grants Wolf Creek Nuclear Operating Corporation (for Wolf Creek Generating Station, Unit 1), a schedular exemption from the offsite biennial emergency preparedness (EP) exercise requirement, allowing it to postpone the calendar year 2021 full-participation biennial EP exercise until November 30, 2022, or when the required exercise is conducted in calendar year 2022, whichever occurs first. The exemption affords this licensee temporary relief from the requirements of 10 CFR part 50, appendix E, regarding offsite response organization (ORO) participation in the biennial EP exercise. The exemption will not adversely affect the emergency response capability of the facility because the licensee has conducted numerous drills, exercises, and other training activities that have exercised the licensee's emergency response strategies since the last evaluated biennial EP exercise and that State, county, and local OROs have participated therein.

The table in this notice provides transparency regarding the number and type of exemptions the NRC has issued. Additionally, the NRC publishes tables of approved regulatory actions related to the COVID-19 PHE on its public website at https://www.nrc.gov/about-nrc/covid-19/reactors/licensing-actions.html.

II. Availability of Documents

The table in this notice provides the facility name, docket number, document description, and ADAMS accession number for the exemption issued. Additional details on the exemption issued, including the exemption request submitted by the licensee and the NRC's decision, are provided in the exemption approval listed in the table in this notice. For additional directions on accessing information in ADAMS, see the ADDRESSES section of this document.

Wolf Creek Generating Station, Unit 1, Docket No. 50-482
Document description | ADAMS Accession No.
Wolf Creek Nuclear Operating Corporation—Docket No. 50-482: One-Time Request for Exemption from the Biennial Emergency Preparedness, dated July 29, 2021 | ML21210A450
Wolf Creek Nuclear Operating Corporation—Docket No. 50-482: Supplement to One-Time Request for Exemption from the Biennial Emergency Preparedness, dated August 12, 2021 | ML21224A225
Wolf Creek Generating Station, Unit 1—Temporary Exemption from Requirements of 10 CFR part 50, appendix E, sections IV.F.2.B and IV.F.2.C (EPID L-2021-LLE-0036 [COVID-19]), dated August 25, 2021 | ML21225A024

Dated: September 9, 2021.
For the Nuclear Regulatory Commission.
James G. Danna,
Chief, Plant Licensing Branch I, Division of Operating Reactor Licensing, Office of Nuclear Reactor Regulation.

[FR Doc. 2021-19824 Filed 9-14-21; 8:45 am]

BILLING CODE 7590-01-P